NATIONAL SCIENCE FOUNDATION

Sunshine Act Meeting

The National Science Board's Committee on Science and Engineering Policy hereby gives notice of the scheduling of a teleconference for the transaction of National Science Board business as follows:

TIME AND DATE: Thursday, April 29, 2021, from 1:00-2:00 p.m. EDT.

PLACE: This meeting will be held by teleconference through the National Science Foundation.

STATUS: Open.

MATTERS TO BE CONSIDERED: The agenda of the teleconference is: Chair's opening remarks; discussion of the narrative outline for the SEI 2022 State of U.S. Science and Engineering summary report.

CONTACT PERSON FOR MORE INFORMATION: Point of contact for this meeting is: Chris Blair, cblair@nsf.gov, 703/292-7000. To listen to this teleconference, members of the public must send an email to nationalsciencebrd@nsf.gov at least 24 hours prior to the teleconference. The National Science Board Office will send requesters a toll-free dial-in number. Meeting information and updates may be found at the National Science Board website www.nsf.gov/nsb.

Chris Blair,
Executive Assistant to the National Science Board Office.

[FR Doc. 2021-08562 Filed 4-21-21; 11:15 am]

BILLING CODE 7555-01-P